DEPARTMENT OF ENERGY

Federal Energy Regulatory Commission

Combined Notice of Filings #2

Take notice that the Commission received the following electric rate filings:

Docket Numbers: ER13-1667-001; ER14-964-002; ER14-965-002.

Applicants: Battery Utility of Ohio, LLC, Pleasant Valley Wind, LLC, Border Winds Energy, LLC.

Description: Notice of Change in Status of Battery Utility of Ohio, LLC, et al.

Filed Date: 9/9/15.

Accession Number: 20150909-5169.

Comments Due: 5 p.m. ET 9/30/15.

Docket Numbers: ER15-2630-000.

Applicants: Southern California Edison Company.

Description: Section 205(d) Rate Filing: Amendments to GIA and Service Agreement to be effective 9/10/2015.

Filed Date: 9/9/15.

Accession Number: 20150909-5140.

Comments Due: 5 p.m. ET 9/30/15.

Docket Numbers: ER15-2631-000.

Applicants: Odell Wind Farm, LLC.

Description: Baseline eTariff Filing: Application for Market-Based Rate Tariff, Blanket Approval and Waivers to be effective 11/9/2015.

Filed Date: 9/9/15.

Accession Number: 20150909-5152.

Comments Due: 5 p.m. ET 9/30/15.

Docket Numbers: ER15-2632-000.

Applicants: Arizona Public Service Company.

Description: Section 205(d) Rate Filing: Rate Schedule No. 217 Exhibit B Revisions to be effective 11/10/2015.

Filed Date: 9/9/15.

Accession Number: 20150909-5153.

Comments Due: 5 p.m. ET 9/30/15.

Docket Numbers: ER15-2633-000.

Applicants: Entergy Services, Inc.

Description: Section 205(d) Rate Filing: Entergy Services, Inc., Service Agreements to be effective 11/8/2015.

Filed Date: 9/9/15.

Accession Number: 20150909-5156.

Comments Due: 5 p.m. ET 9/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2015.
Nathaniel J. Davis, Sr.,
Deputy Secretary.

[FR Doc. 2015-23181 Filed 9-15-15; 8:45 am]

BILLING CODE 6717-01-P